ENVIRONMENTAL PROTECTION AGENCY

40 CFR Part 770

[EPA-HQ-OPPT-2012-0018; FRL-9909-05]

RIN 2070-AJ92

Formaldehyde Emissions Standards for Composite Wood Products; Notice of Public Meeting and Reopening of Comment Period

AGENCY: Environmental Protection Agency (EPA).

ACTION: Proposed rule; notice of meeting and reopening of comment period.

SUMMARY: On June 10, 2013, EPA published a notice of proposed rulemaking (NPRM) in the Federal Register entitled “Formaldehyde Emissions Standards for Composite Wood Products.” This document announces a public meeting for April 28, 2014, and reopens the comment period for the June 10, 2013 Federal Register document for 30 days to allow additional comments to be submitted by the public. Information obtained at the public meeting and during the comment period will be considered by the Agency when preparing the final regulations implementing the formaldehyde emission standards. In particular, EPA is requesting information related to the treatment of laminated products under the proposed regulations.

DATES: For the proposed rule published June 10, 2013 (78 FR 34820), comments must be received on or before May 8, 2014.

The meeting will be held on April 28, 2014, from 1 p.m. to 3:30 p.m.

Requests to participate in the meeting must be received on or before April 21, 2014.

Registered participants, if presenting at the meeting, must request to be scheduled to present on or before April 21, 2014.

To request accommodation of a disability, please contact the technical person listed under FOR FURTHER INFORMATON CONTACT, preferably by April 21, 2014, to give EPA as much time as possible to process your request.

ADDRESSES: For submission of comments, follow the detailed instructions provided under ADDRESSES in the Federal Register document of June 10, 2013 (78 FR 34820) (FRL-9342-3).

The meeting will be held at in the East William Jefferson Clinton Bldg., Rm. 1153, 1201 Constitution Ave. NW., Washington, DC.

Submit requests to participate in the meeting, identified by docket identification (ID) number EPA-HQ-OPPT-2012-0018, to the technical person listed under FOR FURTHER INFORMATION CONTACT. Upon request, a teleconferencing number will be provided for those who wish to attend the meeting remotely.

Submit requests to schedule a presentation at the meeting, identified by docket ID number EPA-HQ-OPPT-2012-0018, to the technical person listed under FOR FURTHER INFORMATION CONTACT.

FOR FURTHER INFORMATION CONTACT: For technical information contact: Sara Kemme, National Program Chemicals Division (7404T), Office of Pollution Prevention and Toxics, Environmental Protection Agency, 1200 Pennsylvania Ave. NW., Washington, DC 20460-0001; telephone number: (202) 566-0511; email address: kemme.sara@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (including import), purchase, or sell composite wood products. You may also be affected if you manufacture (including import), purchase, or sell finished goods or component parts that contain composite wood products. The following list of North American Industrial Classification System (NAICS) codes is not intended to be exhaustive, but rather provides a guide to help readers determine whether this document applies to them. Potentially affected entities may include:

• Furniture and related product manufacturing (NAICS code 337).

• Veneer, plywood, and engineered wood product manufacturing (NAICS code 3212).

• Plastics material and resin manufacturing (NAICS code 325211).

• Furniture merchant wholesalers (NAICS code 42321).

• Lumber, plywood, millwork, and wood panel merchant wholesalers (NAICS code 42331).

• Other construction material merchant wholesalers (NAICS code 423390), e.g., merchant wholesale distributors of manufactured homes (i.e., mobile homes) and/or prefabricated buildings.

If you have any questions regarding the applicability of this action to a particular entity, consult the technical person listed under FOR FURTHER INFORMATION CONTACT.

B. What should I consider as I prepare my comments for EPA?

1. Submitting Confidential Business Information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. Are there requirements for meeting presentations?

To ensure that all interested parties will have an opportunity to comment in the allotted time, oral presentations or statements will be limited to 10 minutes. EPA, therefore, recommends that stakeholders who present oral comments also submit written comments following the instructions provided under ADDRESSES.

D. What is the Agency's authority for taking this action?

This document is being developed under the authority of section 601 of the Toxic Substances Control Act (TSCA), 15 U.S.C. 2697.

II. Background

On June 10, 2013, EPA published a NPRM in the Federal Register entitled “Formaldehyde Emissions Standards for Composite Wood Products” (Ref. 1). After two extensions, the comment period for the NPRM closed on October 9, 2013 (Ref. 2). After the closing of the comment period, the California Air Resources Board (CARB) provided additional documents that EPA wishes to consider in developing the final regulation (Refs. 3 and 4). EPA is especially interested in CARB's potential modifications to its Airborne Toxics Control Measure to Reduce Formaldehyde Emissions from Composite Wood Products to address laminated products (Ref. 3).

EPA received public comments on the treatment of laminated products, including several comments that suggested laminated products should be exempted from the definition of hardwood plywood or, if not, they should not be held to the same testing requirements as hardwood plywood. CARB suggested that laminated products be held to an emission standard, but that there should be no required emissions testing (Ref. 3). Some commenters suggested EPA should consider self-certification for smaller companies (Ref. 5). One of these commenters suggested excluding small companies that produce less than 100,000 square feet per year from the testing and certification requirements (Ref. 5). Another commenter, noting that the proposed definition of laminated product is limited to products made with particleboard, medium-density fiberboard, or veneer cores, suggested a reduced testing frequency coupled with third-party certifier oversight for all laminated product producers and for all similar products, regardless of core type (Ref. 6). Other commenters suggested that it is appropriate to reduce the testing frequency by limiting the required testing to annual testing (Ref. 7) and require laminated product producers to test only their highest emitting product (Ref. 8).

EPA has also received input on the appropriate emission standard, if any, for laminated products. One commenter suggested that, because hardwood plywood is indistinguishable from laminated products, the hardwood plywood emission standard is appropriate (Ref. 6). CARB suggested that laminated product producers could be expected to meet an emission standard identical to the thin medium-density fiberboard standard (Ref. 3). Another commenter suggested the particleboard emission standard is the most appropriate standard for laminated products (Ref. 9). Another commenter, while not suggesting a specific emission standard, noted that, in many cases, laminated products are intermediate products that are not offered for sale, and stated that EPA's proposal “gives no credit or recognition to the significant reduction in emissions when a product is laminated and finished” (Ref. 10).

The Agency is seeking additional public input related to laminated products. The purpose of this meeting and the reopening of the comment period is to facilitate additional public input regarding potential modifications to EPA's proposed treatment of laminated products under the proposed regulation, including options based on the ideas raised in the comments discussed in this unit. With respect to the treatment of laminated products, EPA is considering one, or a combination of, the following: CARB's latest proposal (Ref. 1); a reduced testing program for laminated products, a self-certification program for laminated products, an exemption of laminated products from the definition of “hardwood plywood”; or an exemption from testing and certification requirements for all laminated products or just those made by a low-volume producer. EPA requests comment and information on what an appropriate production volume threshold for testing and certification might be. EPA is also considering whether third-party certification should be required for laminated products if emission testing for these products is required; what emission standard, if any, would be appropriate for laminated products; and whether laminated products should be grouped for testing purposes. EPA is also requesting comment on associated definitional changes, including those in CARB's latest proposal, and other potential changes to the definition of “laminated product” (Ref. 3), such as expanding the eligible platforms to cover the cores identified in the definition of “hardwood plywood” (Ref. 4).

EPA is reopening the comment period for the June 10, 2013 Federal Register document to allow interested parties to submit additional relevant information before or after the public meeting. The reopened comment period will stay open through the public meeting on April 28, 2014, and continue to remain open until May 8, 2014 to accommodate written follow-up comments that participants or the general public wish to submit after the public meeting. Comments will be accepted regardless of whether the submitter participates in the public meeting.

III. References

A docket has been established for this document under docket ID number EPA-HQ-OPPT-2012-0018. The following is a list of the documents that are specifically referenced in this document. The docket includes these documents and other information including documents that are referenced within the documents that are included in the docket, even if the referenced document is not physically located in the docket. For assistance in locating these other documents, please consult the technical person listed under FOR FURTHER INFORMATION CONTACT.

1. Formaldehyde Emissions Standards for Composite Wood Products (78 FR 34820, June 10, 2013) (FRL-9342-3).

2. Formaldehyde Emissions Standards for Composite Wood Products; Extension of Comment Period (78 FR 51695, August 21, 2013) (FRL-9397-2).

3. CARB. Staff Proposal, Alternate Regulatory Approach for Laminated Products Made with Wood Veneer. March 13, 2014.

4. CARB. Preliminary Draft, Amended Final Regulation Order. March 17, 2014.

5. Comment submitted by Joseph H. DuPree, Jr., Chief Operating Officer, Custom Wholesale Floors, Inc. (EPA-HQ-OPPT-2012-0018-0541).

6. Comment submitted by Kip Howlett, President, Brian Sause, Director of Testing, Certification and Standards, and Josh Hosen, Manager of Certification Services, Hardwood Plywood and Veneer Association (EPA-HQ-OPPT-2012-0018-0571).

7. Comment submitted by John Goebel, Chief Executive Officer, Northern Contours, Inc. and John Fitzpatrick, Chief Executive Officer, Woodcraft Industries, Inc. (EPA-HQ-OPPT-2012-0018-0590).

8. Comment submitted by Mike Zimmerman, Laboratory Manager, Sauder Woodworking Corporation (EPA-HQ-OPPT-2012-0018-0566).

9. Comment submitted by Magnus Björk, Compliance Development Specialist, IKEA Trading Operations on behalf of IKEA of Sweden (EPA-HQ-OPPT-2012-0018-0530).

10. Comment submitted by Bill Perdue, Vice President of Regulatory Affairs, American Home Furnishings Alliance (EPA-HQ-OPPT-2012-0018-0562).

List of Subjects in 40 CFR Part 770

Environmental protection, Composite wood, Formaldehyde, Reporting and recordkeeping requirements, Toxic substances, Wood.

Dated: March 28, 2014.
James Jones,
Assistant Administrator, Office of Chemical Safety and Pollution Prevention.

[FR Doc. 2014-07696 Filed 4-7-14; 8:45 am]

BILLING CODE 6560-50-P